DEPARTMENT OF LABOR

Employment and Training Administration

[TA-W-65,165]

Chrysler National Customer Service, Rochester Hills, MI; Notice of Termination of Investigation

Pursuant to Section 221 of the Trade Act of 1974, as amended, an investigation was initiated on February 9, 2009 in response to a petition filed by the International Union, United Automobile, United Aerospace and Agricultural Implement Workers of America, Local 889 on behalf of workers of Chrysler National Customer Service Center, Rochester Hills, Michigan.

The petitioner has requested that the petition be withdrawn. Consequently, the investigation has been terminated.

Signed at Washington, DC, this 19th day of March 2009.
Linda G. Poole,
Certifying Officer, Division of Trade Adjustment Assistance.

[FR Doc. E9-7748 Filed 4-6-09; 8:45 am]

BILLING CODE 4510-FN-P